NUCLEAR REGULATORY COMMISSION

10 CFR Part 72

[NRC-2019-0160]

RIN 3150-AK36

List of Approved Spent Fuel Storage Casks: Holtec International HI-STORM 100 Multipurpose Canister Cask System, Certificate of Compliance No. 1014, Amendment No. 14

AGENCY: Nuclear Regulatory Commission.

ACTION: Proposed rule.

SUMMARY: The U.S. Nuclear Regulatory Commission (NRC) is proposing to amend its spent fuel storage regulations by revising the Holtec International HI-STORM 100 Multipurpose Canister Cask System listing within the “List of approved spent fuel storage casks” to include Amendment No. 14 to Certificate of Compliance No. 1014. Amendment No. 14 revises the technical specifications to add new heat loading patterns, reduce the minimum cooling time, allow use of a damaged fuel isolator for storing damaged fuel, and modify the description of vents in overpack. Amendment No. 14 also makes other administrative changes to the technical specifications.

DATES: Submit comments by November 4, 2019. Comments received after this date will be considered if it is practical to do so, but the NRC is able to ensure consideration only for comments received on or before this date.

ADDRESSES: You may submit comments by any of the following methods:

• Federal Rulemaking Website: Go to https://www.regulations.gov and search for Docket ID NRC-2019-0160. Address questions about NRC dockets to Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Yen-Ju Chen, Office of Nuclear Material Safety and Safeguards; telephone: 301-415-1018; email: Yen-Ju.Chen@nrc.gov or Torre Taylor, Office of Nuclear Material Safety and Safeguards; telephone: 301-415-7900; email: Torre.Taylor@nrc.gov. Both are staff of the U.S. Nuclear Regulatory Commission, Washington, DC 20555-0001.

SUPPLEMENTARY INFORMATION:

Table of Contents

I. Obtaining Information and Submitting Comments

II. Rulemaking Procedure

III. Background

IV. Plain Writing

V. Availability of Documents

I. Obtaining Information and Submitting Comments

A. Obtaining Information

Please refer to Docket ID NRC-2019-0160 when contacting the NRC about the availability of information for this action. You may obtain publicly-available information related to this action by any of the following methods:

• Federal Rulemaking Website: Go to https://www.regulations.gov and search for Docket ID NRC-2019-0160.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2019-0160 in your comment submission. The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

Because the NRC considers this action to be non-controversial, the NRC is publishing this proposed rule concurrently with a direct final rule in the Rules and Regulations section of this issue of the Federal Register. The direct final rule will become effective on December 17, 2019. However, if the NRC receives significant adverse comments on this proposed rule by November 4, 2019, then the NRC will publish a document that withdraws the direct final rule. If the direct final rule is withdrawn, the NRC will address the comments received in response to these proposed revisions in a subsequent final rule. Absent significant modifications to the proposed revisions requiring republication, the NRC will not initiate a second comment period on this action in the event the direct final rule is withdrawn.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule, certificate of compliance, or technical specifications.

For procedural information and the regulatory analysis, see the direct final rule published in the Rules and Regulations section of this issue of the Federal Register.

III. Background

Section 218(a) of the Nuclear Waste Policy Act of 1982, as amended, requires that “[t]he Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the Nuclear Waste Policy Act states, in part, that “[the Commission] shall, by rule, establish procedures for the licensing of any technology approved by the Commission under section 219(a) [sic: 218(a)] for use at the site of any civilian nuclear power reactor.”

To implement this mandate, the Commission approved dry storage of spent nuclear fuel in NRC-approved casks under a general license by publishing a final rule which added a new subpart K in part 72 of title 10 of the Code of Federal Regulations (10 CFR) entitled “General License for Storage of Spent Fuel at Power Reactor Sites” (55 FR 29181; July 18, 1990). This rule also established a new subpart L in 10 CFR part 72 entitled “Approval of Spent Fuel Storage Casks,” which contains procedures and criteria for obtaining NRC approval of spent fuel storage cask designs. The NRC subsequently issued a final rule on May 1, 2000, that approved the HI-STORM 100 Cask System design and added it to the list of NRC-approved cask designs in § 72.214 as Certificate of Compliance No. 1014 (65 FR 25241).

IV. Plain Writing

The Plain Writing Act of 2010 (Pub. L. 111-274) requires Federal agencies to write documents in a clear, concise, well-organized manner. The NRC has written this document to be consistent with the Plain Writing Act as well as the Presidential Memorandum, “Plain Language in Government Writing,” published June 10, 1998 (63 FR 31885). The NRC requests comment on the proposed rule with respect to the clarity and effectiveness of the language used.

V. Availability of Documents

The documents identified in the following table are available to interested persons through the following method.

Document | ADAMS accession No.
Letter from Holtec International Transmitting Request for Amendment No. 14 to Certificate of Compliance No. 1014, October 31, 2018 | ML18331A052
Attachment 1: Summary of Request for Amendment No. 14 to Certificate of Compliance No. 1014, October 31, 2018 | ML18331A043
Attachment 2: Proposed Amendment No. 14 to Certificate of Compliance No. 1014, October 31, 2018 | ML18331A046
Attachment 3: Proposed Amendment No. 14 to Certificate of Compliance No. 1014, Appendix A, October 31, 2018 | ML18331A047
Attachment 4: Proposed Amendment No. 14 to Certificate of Compliance No. 1014, Appendix B, October 31, 2018 | ML18331A048
Attachment 5: Final Safety Analysis Report Proposed Changes, October 31, 2018 | ML18331A049
Letter from Holtec International Transmitting Supplement to Amendment Request, November 6, 2018 | ML18324A577
Letter from Holtec International Transmitting Responses to NRC's 1st Round of Requests for Additional Information for Amendment No. 14, February 28, 2019 | ML19065A053
Attachment 2: Request for Additional Information, Combined Responses, Non-Proprietary, February 28, 2019 | ML19065A027
Attachment 3: Final Safety Analysis Report Proposed Changes, Non-Proprietary, February 28, 2019 | ML19065A029
Attachment 4: Summary of Proposed Changes, Non-Proprietary, February 28, 2019 | ML19065A030
Letter from Holtec International Transmitting Responses to Clarification Questions, April 5, 2019 | ML19101A339
Attachment 1: Responses to Clarification Questions, April 5, 2019 | ML19101A337
Attachment 2: Final Safety Analysis Report (Proposed Revision 16B), April 5, 2019 | ML19114A289
Letter from Holtec International, Submittal of Responses to Clarification Questions, April 23, 2019 | ML19121A280
Final Safety Analysis Report (Proposed Revision 16B), Chapter 2, Changed Pages, April 5, 2019 | ML19121A279
Letter from Holtec International, Submittal of Responses to Clarification Questions, dated May 13, 2019 | ML19140A278
Final Safety Analysis Report (Proposed Revision 16B), Chapter 2, Changed Pages, May 13, 2019 | ML19140A277
Proposed Certificate of Compliance No. 1014 Amendment No. 14, Certificate of Compliance for Spent Fuel Storage Casks | ML19120A058
Proposed Certificate of Compliance No. 1014 Amendment No. 14, Technical Specifications, Appendix A | ML19120A059
Proposed Certificate of Compliance No. 1014 Amendment No. 14, Technical Specifications, Appendix B | ML19120A061
Proposed Certificate of Compliance No. 1014 Amendment No. 14, Technical Specifications, Appendix A-100U | ML19120A062
Proposed Certificate of Compliance No. 1014 Amendment No. 14, Technical Specifications, Appendix B-100U | ML19120A063
Certificate of Compliance No. 1014 Amendment No. 14, Preliminary Safety Evaluation Report | ML19120A064
E-mail from J. Tomlinson, Holtec, regarding administrative change to HI-Storm 100 Amendment 14 CoC, Appendix B, August 8, 2019 | ML19224A393

The NRC may post materials related to this document, including public comments, on the Federal Rulemaking website at https://www.regulations.gov under Docket ID NRC-2019-0160. The Federal Rulemaking website allows you to receive alerts when changes or additions occur in a docket folder. To subscribe: (1) Navigate to the docket folder (NRC-2019-0160); (2) click the “Sign up for Email Alerts” link; and (3) enter your email address and select how frequently you would like to receive emails (daily, weekly, or monthly).

List of Subjects in 10 CFR Part 72

Administrative practice and procedure, Hazardous waste, Indians, Intergovernmental relations, Nuclear energy, Penalties, Radiation protection, Reporting and recordkeeping requirements, Security measures, Spent fuel, Whistleblowing.

Dated at Rockville, Maryland, this 17th day of September, 2019.
For the Nuclear Regulatory Commission.
Daniel H. Dorman,
Acting Executive Director for Operations.

[FR Doc. 2019-21210 Filed 10-2-19; 8:45 am]

BILLING CODE 7590-01-P